DEPARTMENT OF HEALTH AND HUMAN SERVICES

Food and Drug Administration

[Docket No. FDA-2021-P-0168]

Growing, Harvesting, Processing, and Distribution of Poppy Seeds—Industry Practices Related to Opiate Alkaloids; Request for Information; Extension of Comment Period; Correction

AGENCY: Food and Drug Administration, HHS.

ACTION: Notice; request for information; extension of comment period; correction.

SUMMARY: The Food and Drug Administration (FDA) is correcting a notice that appeared in the Federal Register on April 9, 2025. The document announced the extension of the comment period for the request for information entitled “Growing, Harvesting, Processing, and Distribution of Poppy Seeds—Industry Practices Related to Opiate Alkaloids.” The notice published with an error in the ADDRESSES section. This document corrects the error.

FOR FURTHER INFORMATION CONTACT: Holli Kubicki, Office of Policy, Regulations, and Information, Human Foods Program, Food and Drug Administration, 5001 Campus Dr., College Park, MD 20740, 240-402-2378.

SUPPLEMENTARY INFORMATION: In the Federal Register of Wednesday, April 9, 2025 (90 FR 15243), in FR Doc. 2025-06049, on page 15244, in the first column, in the third sentence of the ADDRESSES section, the date until which the https://www.regulations.gov electronic filing system will accept comments is corrected to read “June 16, 2025.”

Dated: May 22, 2025.
Grace R. Graham,
Deputy Commissioner for Policy, Legislation, and International Affairs.

[FR Doc. 2025-09681 Filed 5-28-25; 8:45 am]

BILLING CODE 4164-01-P